FEDERAL RESERVE SYSTEM

Proposed Agency Information Collection Activities; Comment Request

AGENCY: Board of Governors of the Federal Reserve System.

SUMMARY: On June 15, 1984, the Office of Management and Budget (OMB) delegated to the Board of Governors of the Federal Reserve System (Board) its approval authority under the Paperwork Reduction Act (PRA), pursuant to 5 CFR 1320.16, to approve of and assign OMB control numbers to collection of information requests and requirements conducted or sponsored by the Board under conditions set forth in 5 CFR part 1320 Appendix A.1. Board-approved collections of information are incorporated into the official OMB inventory of currently approved collections of information. Copies of the Paperwork Reduction Act Submission, supporting statements and approved collection of information instruments are placed into OMB's public docket files. The Federal Reserve may not conduct or sponsor, and the respondent is not required to respond to, an information collection that has been extended, revised, or implemented on or after October 1, 1995, unless it displays a currently valid OMB control number.

DATES: Comments must be submitted on or before June 14, 2013.

ADDRESSES: You may submit comments, identified by FR 2060, FR 4006, FR 4008, FR 4013, or FR 4014, by any of the following methods:

• Agency Web site: http://www.federalreserve.gov. Follow the instructions for submitting comments at http://www.federalreserve.gov/apps/foia/proposedregs.aspx.

• Federal eRulemaking Portal: http://www.regulations.gov. Follow the instructions for submitting comments.

• Email: regs.comments@federalreserve.gov. Include OMB number in the subject line of the message.

• FAX: (202) 452-3819 or (202) 452-3102.

• Mail: Robert deV. Frierson, Secretary, Board of Governors of the Federal Reserve System, 20th Street and Constitution Avenue NW., Washington, DC 20551.

All public comments are available from the Board's Web site at www.federalreserve.gov/generalinfo/foia/ProposedRegs.cfm as submitted, unless modified for technical reasons. Accordingly, your comments will not be edited to remove any identifying or contact information. Public comments may also be viewed electronically or in paper form in Room MP-500 of the Board's Martin Building (20th and C Streets, NW.) between 9:00 a.m. and 5:00 p.m. on weekdays.

Additionally, commenters may send a copy of their comments to the OMB Desk Officer—Shagufta Ahmed—Office of Information and Regulatory Affairs, Office of Management and Budget, New Executive Office Building, Room 10235 725 17th Street NW., Washington, DC 20503 or by fax to (202) 395-6974.

FOR FURTHER INFORMATION CONTACT: A copy of the PRA OMB submission, including the proposed reporting form and instructions, supporting statement, and other documentation will be placed into OMB's public docket files, once approved. These documents will also be made available on the Federal Reserve Board's public Web site at: http://www.federalreserve.gov/apps/reportforms/review.aspx or may be requested from the agency clearance officer, whose name appears below.

Federal Reserve Board Clearance Officer—Cynthia Ayouch—Division of Research and Statistics, Board of Governors of the Federal Reserve System, Washington, DC 20551 (202) 452-3829. Telecommunications Device for the Deaf (TDD) users may contact (202) 263-4869, Board of Governors of the Federal Reserve System, Washington, DC 20551.

SUPPLEMENTARY INFORMATION:

Request for Comment on Information Collection Proposals

The following information collections, which are being handled under this delegated authority, have received initial Board approval and are hereby published for comment. At the end of the comment period, the proposed information collections, along with an analysis of comments and recommendations received, will be submitted to the Board for final approval under OMB delegated authority. Comments are invited on the following:

a. Whether the proposed collection of information is necessary for the proper performance of the Federal Reserve's functions; including whether the information has practical utility;

b. The accuracy of the Federal Reserve's estimate of the burden of the proposed information collection, including the validity of the methodology and assumptions used;

c. Ways to enhance the quality, utility, and clarity of the information to be collected;

d. Ways to minimize the burden of information collection on respondents, including through the use of automated collection techniques or other forms of information technology; and

e. Estimates of capital or start up costs and costs of operation, maintenance, and purchase of services to provide information.

Proposal to approve under OMB delegated authority the extension for three years, with revision, of the following reports:

1. Report title: Survey to Obtain Information on the Relevant Market in Individual Merger Cases.

Agency form number: FR 2060.

OMB control number: 7100-0232.

Frequency: On occasion.

Reporters: Small businesses and consumers.

Annual reporting hours: 9 hours.

Estimated average hours per response: Small businesses, 10 minutes; consumers, 6 minutes.

Number of respondents: 25 small businesses and 50 consumers per survey.

General description of report: This information collection is voluntary pursuant to the Change in Bank Control Act (12 U.S.C. 1817(j)(7)(A) and (B)), the Bank Merger Act (12 U.S.C. 1828(c)(5)), and section 3(c)(1) of the Bank Holding Company Act (BHC Act) (12 U.S.C. 1842(c)(1)). Individual responses are confidential pursuant to the Freedom of Information Act (5 U.S.C. 552 (b)(4) and (b)(6)) for small businesses and consumers, respectively.

Abstract: The Federal Reserve uses this information to define relevant banking markets for specific merger and acquisition applications and to evaluate changes in competition that would result from proposed transactions, including purchase and assumption agreements.

Current Actions: The Federal Reserve proposes to include savings and loan holding companies (SLHCs) in the evaluation of changes in local banking markets.

2. Report title: Notice Claiming Status as an Exempt Transfer Agent.

Agency form number: FR 4013.

OMB control number: 7100-0137.

Frequency: On occasion.

Reporters: Banks, Bank Holding Companies (BHCs), SLHCs, and certain trust companies.

Annual reporting hours: 20 hours.

Estimated average hours per response: 2 hours.

Number of respondents: 10.

General description of report: This information collection is mandatory pursuant to section 17A(c) of the Securities Exchange Act of 1934 (15 U.S.C. 78q-1(c)) as amended by the Securities Acts Amendments of 1975. This section provides for the registration of transfer agents within the appropriate regulatory agencies (including the Federal Reserve under 15 U.S.C. 78c(a)(34)(B)(ii). The data collected are not given confidential treatment.

Abstract: Banks, BHCs, and trust companies subject to the Federal Reserve's supervision that are low-volume transfer agents voluntarily file the notice on occasion with the Federal Reserve. Transfer agents are institutions that provide securities transfer, registration, monitoring, and other specified services on behalf of securities issuers. The purpose of the notice, which is effective until the agent withdraws it, is to claim exemption from certain rules and regulations of the Securities and Exchange Commission (SEC). The Federal Reserve uses the notices for supervisory purposes because the SEC has assigned to the Federal Reserve responsibility for collecting the notices and verifying their accuracy through examinations of the respondents. There is no formal reporting form and each notice is filed as a letter.

Current Actions: The Federal Reserve proposes to include SLHCs in the respondent panel.

Proposal to approve under OMB delegated authority the extension for three years, without revision, of the following reports:

1. Report title: Request for Extension of Time to Dispose of Assets Acquired in Satisfaction of Debts Previously Contracted.

Agency form number: FR 4006.

OMB control number: 7100-0129.

Frequency: Annual.

Reporters: BHCs.

Annual reporting hours: 885 hours.

Estimated average hours per response: 5 hours.

Number of respondents: 177.

General description of report: This information collection is required to obtain a benefit pursuant to sections 4(a) and 4(c)(2) of the BHC Act (12 U.S.C. 1843(a) and (c)(2)) and may be given confidential treatment upon request. The Federal Reserve has established a procedure for requesting an extension in its Regulation Y (12 CFR 225.22(d)(1) and 225.140).

Abstract: A BHC that acquired voting securities or assets through foreclosure in the ordinary course of collecting a debt previously contracted may not retain ownership of those shares or assets for more than two years without prior Federal Reserve approval. There is no formal reporting form and each request for extension must be filed at the appropriate Reserve Bank of the BHC. The Federal Reserve uses the information provided in the request to fulfill its statutory obligation to supervise BHCs.

2. Report title: Stock Redemption Notification.

Agency form number: FR 4008.

OMB control number: 7100-0131.

Frequency: On occasion.

Reporters: BHCs.

Annual reporting hours: 155 hours.

Estimated average hours per response: 15.5 hours.

Number of respondents: 10

General description of report: This information collection is mandatory pursuant to Sections 5(b) and (c) of the BHC Act (12 U.S.C. 1844(b) and (c)) and is generally not given confidential treatment. However, a respondent may request that the information be kept confidential on a case-by-case basis.

Abstract: The BHC Act and Regulation Y generally require a BHC to seek prior Federal Reserve approval before purchasing or redeeming its equity securities. Given that a BHC is exempt from this requirement if it meets certain financial, managerial, and supervisory standards, only a small portion of proposed stock redemptions actually require the prior approval of the Federal Reserve. There is no formal reporting form. The Federal Reserve uses the information provided in the redemption notice to fulfill its statutory obligation to supervise BHCs.

3. Report title: Investment in Bank Premises Notification.

Agency form number: FR 4014.

OMB control number: 7100-0139.

Frequency: On occasion.

Reporters: State member banks (SMBs).

Annual reporting hours: 6 hours.

Estimated average hours per response: 30 minutes.

Number of respondents: 11.

General description of report: This information collection is required to obtain a benefit pursuant to Section 24A(a) of the Federal Reserve Act (12 U.S.C. 371d(a)) and is not given confidential treatment. However, a respondent may request confidential treatment for all or part of a notification, which would be reviewed on a case-by-case basis.

Abstract: The Federal Reserve Act requires SMBs to seek prior Federal Reserve approval before making an investment in bank premises that exceeds certain thresholds. There is no formal reporting form, and each required request for prior approval must be filed as a notification with the appropriate Reserve Bank of the SMB. The Federal Reserve uses the information provided in the notice to fulfill its statutory obligation to supervise SMBs.

Board of Governors of the Federal Reserve System, April 10, 2013.
Robert deV. Frierson,
Secretary of the Board.

[FR Doc. 2013-08731 Filed 4-12-13; 8:45 am]

BILLING CODE 6210-01-P